DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 27, 2009.

Interested persons are invited to submit written comments regarding the subject matter of the investigations to the Director, Division of Trade Adjustment Assistance, at the address shown below, not later than November 27, 2009.

The petitions filed in this case are available for inspection at the Division of Trade Adjustment Assistance, Employment and Training Administration, U.S. Department of Labor, Room N-5428, 200 Constitution Avenue, NW., Washington, DC 20210.

Signed at Washington, DC, this 5th day of November 2009.
Richard Church,
Certifying Officer, Division of Trade Adjustment Assistance.

Appendix
[TAA petitions instituted between 10/26/09 and 10/30/09]
TA-W | Subject firm (petitioners) | Location | Date of institution | Date of petition
72665 | Federal-Mogul Sintered Products (State) | Waupun, WI | 10/26/09 | 10/23/09
72666 | Jana's Classics (Wkrs) | Tualatin, OR | 10/26/09 | 09/01/09
72667 | Fastenal Company (Comp) | Heath, OH | 10/26/09 | 10/23/09
72668 | AEES (Comp) | Farmington Hills, MI | 10/26/09 | 10/20/09
72669 | A&H Sportswear (Wkrs) | Pen Argyl, PA | 10/26/09 | 10/23/09
72670 | Ericsson (Wkrs) | Research Triangle Park, NC | 10/26/09 | 10/22/09
72671 | Stein Inc. (Wkrs) | Broadview Heights, OH | 10/26/09 | 10/23/09
72672 | Concord Steel (Wkrs) | Warren, OH | 10/26/09 | 10/14/09
72673 | Weather Shield Manufacturing, Inc (Wkrs) | Medford, WI | 10/26/09 | 10/23/09
72674 | Faurecia Seating (Comp) | Auburn Hills, MI | 10/26/09 | 10/20/09
72675 | Kenco Logistic Services, LLC (Wkrs) | Chattanooga, TN | 10/26/09 | 10/21/09
72676 | Christensen Shipyard LTD (Wkrs) | Vancouver, WA | 10/26/09 | 10/13/09
72677 | GE Oil & Gas Operations, LLC (Wkrs) | Oshkosh, WI | 10/26/09 | 10/22/09
72678 | Sand Dollar Drilling, LP (Wkrs) | San Angelo, TX | 10/27/09 | 10/21/09
72679 | Logistics Management Services, Inc. (LMSI) (State) | Fenton, MO | 10/27/09 | 10/26/09
72680 | Goodwill Printing (Union) | Ferndale, MI | 10/27/09 | 10/26/09
72681 | Weyerhaeuser Company (Comp) | Roseburg, OR | 10/27/09 | 10/23/09
72682 | Toshiba America Consumer Products (Union) | Lebanon, TN | 10/27/09 | 10/26/09
72683 | McConway & Torley (Wkrs) | Pittsburgh, PA | 10/27/09 | 10/26/09
72684 | McMullin Chevrolet Pontiac (Wkrs) | Dallas, OR | 10/27/09 | 10/23/09
72685 | First Data Corporation (State) | Daytona Beach, FL | 10/27/09 | 05/18/09
72686 | Citi (Wkrs) | Fort Lauderdale, FL | 10/27/09 | 10/16/09
72687 | Pratt N Whitney Engine Services (Wkrs) | Plattsburgh, NY | 10/27/09 | 10/26/09
72688 | P.S. Stix, Inc. (Wkrs) | Costa Mesa, CA | 10/27/09 | 10/06/09
72689 | Freescale Semiconductor (Wkrs) | Austin, TX | 10/27/09 | 10/19/09
72690 | Whirlaway Cinn. Corporation (Wkrs) | Hamilton, OH | 10/28/09 | 10/01/09
72691 | Moog Aircraft Group—Salt Lake Operations (Comp) | Salt Lake City, UT | 10/28/09 | 10/20/09
72692 | Illinois Tool Works (Wkrs) | Frackville, PA | 10/28/09 | 10/27/09
72693 | Jim Walter Homes, Inc. (Comp) | Tampa, FL | 10/28/09 | 10/27/09
72694 | AMDOCS (Wkrs) | St. Louis, MO | 10/28/09 | 10/26/09
72695 | Hanesbrands (Wkrs) | Galax, VA | 10/28/09 | 10/27/09
72696 | Reed Manufacturing Company, Inc. (Comp) | Tupelo, MS | 10/28/09 | 10/27/09
72697 | Lucite International (State) | Nederland, TX | 10/28/09 | 10/26/09
72698 | Designs Now (Comp) | Kettering, OH | 10/28/09 | 10/27/09
72699 | EMCOR Facility Services (Comp) | Yardley, PA | 10/28/09 | 10/27/09
72700 | The H. B. Smith Company, Inc. (Comp) | Westfield, MA | 10/28/09 | 10/27/09
72701 | BRP US, Inc. (Comp) | Sturtevant, WI | 10/28/09 | 10/16/09
72702 | Benchmark Electronics, Beaverton Division (Comp) | Beaverton, OR | 10/28/09 | 10/16/09
72703 | Young Touchstone (Wkrs) | Lexington, TN | 10/29/09 | 10/27/09
72704 | Starwood Hotels & Resorts Worldwide, Inc. (Comp) | Braintree, MA | 10/29/09 | 09/30/09
72705 | Foam Tech, Inc. (Comp) | Lexington, NC | 10/29/09 | 10/28/09
72706 | Berry Company (Wkrs) | Erie, PA | 10/29/09 | 06/22/09
72707 | Airways (Wkrs) | Hamilton, IN | 10/29/09 | 10/23/09
72708 | Phylrich International (Comp) | Burbank, CA | 10/29/09 | 10/26/09
72709 | Master Lock Company, LLC (Union) | Oak Creek, WI | 10/29/09 | 10/28/09
72710 | EDS, HP company (State) | Fairfield Twnship, OH | 10/29/09 | 10/28/09
72711 | Wire Products Company, Inc (Wkrs) | Cleveland, OH | 10/29/09 | 10/27/09
72712 | Quality Spring/Togo, Inc. (Union) | Coldwater, MI | 10/29/09 | 10/26/09
72713 | Jones Lang LaSalle Americas (Wkrs) | Chicago, IL | 10/30/09 | 10/29/09
72714 | General Motors Corporation (Wkrs) | Troy, MI | 10/30/09 | 10/29/09
72715 | Bogner of America (Comp) | Newport, VT | 10/30/09 | 10/28/09
72716 | Freeport-McMoran (Wkrs) | Safford, AZ | 10/30/09 | 10/21/09
72717 | QRS Music Technologies, Inc. (Comp) | Seneca, PA | 10/30/09 | 10/28/09
72718 | Briggs & Stratton Power Products Group, LLC (Comp) | Jefferson (Watertown), WI | 10/30/09 | 10/29/09
72719 | Voith Fabrics (Union) | Appleton, WI | 10/30/09 | 10/26/09
72720 | Philips Healthcare Systems (Wkrs) | Cleveland, OH | 10/30/09 | 10/28/09
72721 | Arquest (State) | Camden, AR | 10/30/09 | 10/29/09
72722 | Arcelor/Mittal (Wkrs) | Shelby, OH | 10/30/09 | 10/22/09
72723 | AMDOCS, Inc. (Wkrs) | San Ramon, CA | 10/30/09 | 10/27/09

[FR Doc. E9-27534 Filed 11-16-09; 8:45 am]

BILLING CODE 4510-FN-P